NATIONAL SCIENCE FOUNDATION

Special Emphasis Panel in Educational Systemic Reform; Notice of Meeting

In accordance with the Federal Advisory Committee Act (Pub. L. 92-463, as amended), the National Science Foundation announces the following meeting:

Name: Special Emphasis Panel in Educational Systemic Reform (1765).

Date and Time: May 11-12, 2000; 8 a.m.-5:30 p.m.

Place: Room 370, National Science Foundation, 4201 Wilson Blvd., Arlington, VA.

Type of Meeting: Closed.

Contact Person: Kathleen Bergin or Celeste Pea, Program Directors, Division of Educational Systemic Reform, National Science Foundation, 4201 Wilson Boulevard, Room 875 Arlington, VA 22230. Telephone: (703) 306-1682.

Purpose of Meeting: To provide advice and recommendations concerning proposals submitted to NSF for financial support.

Agenda: To review and evaluate proposals for the Urban Systemic Program as part of the selection process for awards.

Reason for closing: The proposals being reviewed include information of a proprietary or confidential nature, including technical information; financial data, such as salaries; and personal information concerning individuals associated with the proposals. These matters are exempt under 5 U.S.C. 552b(c), (4) and (6) of the Government in the Sunshine Act.

Dated: May 2, 2000.
Karen J. York,
Committee Management Officer.

[FR Doc. 00-11268 Filed 5-4-00; 8:45 am]

BILLING CODE 7555-01-M